LIBRARY OF CONGRESS

Copyright Office

[Docket No. 2007-10]

Cable Statutory License: Specialty Station List

AGENCY: Copyright Office, Library of Congress.

ACTION: Notice of final specialty station list.

SUMMARY: The Copyright Office is publishing a final list of stations listed in affidavits sent to the Copyright Office in which the owner or licensee of the station attests that the station qualifies as a specialty station in accordance with the Federal Communications Commission‘s (FCC) definition of specialty station in effect on June 24, 1981. The list shall be used to verify the specialty station status of those stations identified as such by cable systems on their semi-annual statements of account.

EFFECTIVE DATE: January 1, 2008

FOR FURTHER INFORMATION CONTACT: Tanya M. Sandros, General Counsel, Copyright GC/I&R, P.O. Box 70400, Washington, DC 20024. Telephone: (202) 707-8380. Telefax: (202) 252-3423.

SUPPLEMENTARY INFORMATION: Under the cable statutory license, section 111 of title 17, United States Code, a cable operator may carry the signal of a television station classified as a specialty station at the base rate rather than at the higher 3.75% rate that is incurred for the carriage of a non-permitted signal. 37 CFR 256.2(c). Specialty station status is determined by reference to the former regulations of the Federal Communications Commission (FCC) which defined a specialty station as “a commercial television broadcast station that generally carries foreign-language, religious, and/or automated programming in one-third of the hours of an average broadcast week and one-third of the weekly prime-time hours.” 47 CFR 76.5(kk) (1981). The FCC no longer determines whether a station qualifies as a specialty station; however, the Copyright Office updates the list periodically, because the list remains relevant to the cable statutory license scheme.

The Copyright Office published its first specialty station list in 1990 under a procedure which allowed the owner of the station to file an affidavit with the Office attesting to the fact that the station’s programming comports with the 1981 FCC definition, and hence, qualifies it as a specialty station. 55 FR 40021 (October 1, 1990). The Office agreed at that time to periodically update the list.

Accordingly, on February 8, 2007, the Copyright Office published a notice asking the owner, or a valid agent of the owner, to file a sworn affidavit with the Copyright Office stating that the station’s programming satisfies the FCC’s former requirements for specialty station status. 72 FR 6008 (February 8, 2007).

On June 15, 2007, the Office published a notice listing the sixty-one broadcast stations for which the owner or licensee of the station had filed the requested affidavit. 72 FR 33251 (June 15, 2007). In the notice, the Office also requested that any party objecting to any claim to specialty station status submit comments to the Office stating his or her objections. No comments or objections were filed with the Office.

Since the publication of the initial list, the Office has received one additional affidavit, attesting to the specialty station status of the identified station. Because this station was not listed in the earlier published list, the station has been identified with an asterisk (*) in the final list. Any interested party may file an objection to a newly listed station or to any other late-filed affidavit, and the objection shall be filed together with the corresponding affidavit. All affidavits and related comments or objections shall be kept on file in the Licensing Division of the Copyright Office.

The final list of specialty stations, published herein, shall be effective January 1, 2008, for the accounting period 2008/1 and thereafter. Copyright Office licensing examiners shall refer to the final annotated list in examining a statement of account where a cable system operator claims specialty station status for a particular station. If a cable system operator claims specialty station status for a station not on the published final list, the examiner determines whether the owner of the station has filed an affidavit since publication of the list.

List of Specialty Stations: Call Letter and Cities of License

KBLN, Grants Pass, OR

KAKW, Kileen, TX

KTFO-CA, Austin, TX

KDTV(TV), San Francisco, CA

KDTV-CA, Santa Rosa, CA

KFTV(TV), Hanford, CA

KMEX-TV, Los Angeles, CA

KNIC-TV, Blanco, TX

KTVW-TV, Phoenix, AZ

KTVW-CA, Flagstaff, AZ

KUTH(TV), Provo, UT

KUVE-TV, Green Valley, AZ

KUVE-CA, Tuscon, AZ

KUVN-TV, Garland, TX

KUVN-CA, Fort Worth, TX

KUVS-TV, Modesto, CA

KWEX-TV, San Antonio, TX

KXLN-TV, Rosenberg, TX

WGBO-TV, Joliet, IL

WFDC-TV, Arlington, VA

WLTV(TV), Miami, FL

WHQS-TV, Cleveland, OH

WUVG-TV, Athens, GA

WTNC-LP, Durham, NC

WUVC-TV, Fayetteville, NC

WUVP-TV, Vineland, NJ

WXTV(TV), Paterson, NJ

K48GX, Tuscon, AZ

KABE-LP, Bakersfield, CA

KFPH-TV, Flagstaff, AZ

KFPH-CA, Phoenix, AZ

KFSF-TV, Vallejo, CA

KFTH-TV, Alvin, TX

KFTR-TV, Ontatio, CA

KFTU-TV, Douglas, AZ

KFTU-CA, Tuscon, AZ

KSTR-TV, Irving, TX

KTFD-TV, Boulder, CO

KTFF-TV, Portersville, CA

KTFF-LP, Fresno, CA

KTFK-TV, Stockton, CA

KTFQ-TV, Albuquerque, NM

WAMI-TV, Hollywood, FL

WFTT-TV, Tampa, FL

WFTY-TV, Smithtown, NY

WFUT-TV, Newark, NJ

WOTF-TV, Melbourne, FL

WUTF-TV, Marlborough, MA

WXFT-TV, Aurora, IL

WLII(TV), Caguas, Puerto Rico

WSUR-TV Ponce, Puerto Rico

KBTF-CA, Bakersfield, CA

KFTO-CA, San Antonio, TX

KNIC-CA, San Antonio, TX

KTFB-CA, Bakersfield, CA

WFPA-CA, Philadelphia, PA

K21GC, Safford, AZ

K45DX, Floresville, TX

KZOL-LP, Safford, AZ

K16FB, Globe, AZ

KDOS-LP, Globe, AZ

KTSF, San Francisco, California*

Dated: October 16, 2007.
Marybeth Peters,
Register of Copyrights.

[FR Doc. E7-20829 Filed 10-22-07; 8:45 am]

BILLING CODE 1410-30-S